NUCLEAR REGULATORY COMMISSION

[Docket No. 50-155 & 72-043]

Consumers Energy Co., Big Rock Point Nuclear Plant; Notice of Receipt, Availability for Comment, and Meeting to Discuss License Termination Plan

The Nuclear Regulatory Commission (NRC) is in receipt of, and is making available for public inspection and comment, the License Termination Plan (LTP) for the Big Rock Point Nuclear Facility (BRP) located in Charlevoix, Michigan.

Reactor operations at the BRP ended in August 29, 1997. The reactor was defueled and all fuel moved to an independent spent fuel storage installation (ISFSI) in March 2003. In accordance with NRC regulations in effect at that time, the licensee submitted a decommissioning plan for the BRP to the NRC in February 1995. When proposed amendments to the NRC's decommissioning regulations were published in the Federal Register on July 29, 1996 (61 FR 39278), the licensee requested that the review of the decommissioning plan be suspended. When the amended regulations became effective on August 28, 1996, the submitted decommissioning plan, as supplemented, became the BRP Post Shutdown Decommissioning Activities Report (PSDAR) pursuant to 10 CFR 50.82, as amended. A public meeting was held in Charlevoix, Michigan, on November 13, 1997, to provide information and gather pubic comment on the PSDAR. The facility is undergoing active decontamination and dismantlement.

In accordance with 10 CFR 50.82(a)(9), all power reactor licensees must submit an application for termination of their license. The application for termination of license must be accompanied by or preceded by an LTP submitted for NRC approval. If found acceptable by the NRC staff, the LTP is approved by license amendment, subject to such conditions and limitations as the NRC staff deems appropriate and necessary. The licensee submitted the proposed LTP for the BRP by application dated April 1, 2003. In accordance with 10 CFR 20.1405 and 10 CFR 50.82(a)(9)(iii), the NRC is providing notice to individuals in the vicinity of the site that the NRC is in receipt of the BRP LTP, and will accept comments from affected parties. In accordance with 10 CFR 50.82(a)(9)(iii), the NRC is also providing notice that the NRC staff will conduct a meeting to discuss the BRP LTP on Tuesday, August 5, 2003, at 7 p.m., at the Charlevoix Stroud Hall located at 12491 Waller Road, Charlevoix, Michigan 49720.

The BRP LTP and associated environmental report are available for public inspection at NRC's Public Document Room at NRC Headquarters, One White Flint North, 11555 Rockville Pike, Rockville, Maryland 20852. These documents are available for public review through ADAMS, the NRC's electronic reading room, at: http://www.nrc.gov/reading-rm/adams.html.

Dated at Rockville, Maryland, this 21st day of July, 2003.
For the Nuclear Regulatory Commission.
Daniel M. Gillen,
Chief, Decommissioning Branch, Division of Waste Management, Office of Nuclear Material Safety and Safeguards.

[FR Doc. 03-19215 Filed 7-28-03; 8:45 am]

BILLING CODE 7590-01-P